ENVIRONMENTAL PROTECTION AGENCY

40 CFR Part 52

[EPA-R05-OAR-2023-0564; FRL-12835-02-R5]

Finding of Failure To Attain; Air Plan Approval; Indiana; Huntington County Sulfur Dioxide Attainment Plan

AGENCY: Environmental Protection Agency (EPA).

ACTION: Final rule.

SUMMARY: The Environmental Protection Agency (EPA) is determining that the Huntington County, Indiana nonattainment area failed to attain the 2010 Sulfur Dioxide (SO2) National Ambient Air Quality Standard (NAAQS) by the applicable attainment date of April 9, 2023. EPA is also approving revisions into the Indiana State Implementation Plan (SIP) intended to provide for attainment of the 2010 SO2 NAAQS for the Huntington County nonattainment area. These SIP revisions include Indiana's attainment demonstration and other planning elements required under the Clean Air Act (CAA), and an order issued by the Commissioner of the Indiana Department of Environmental Management containing enforceable emission limits. Further, EPA is determining that the provisions of Indiana's SIP submittal adequately provide for attainment of the NAAQS and that the plan meets all other applicable CAA requirements. EPA proposed to approve this action on June 18, 2025, and received no adverse comments.

DATES: This final rule is effective on September 15, 2025.

ADDRESSES: EPA has established a docket for this action under Docket ID No. EPA-R05-OAR-2023-0564. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Abigail Teener, at (312) 353-7314, before visiting the Region 5 office.

FOR FURTHER INFORMATION CONTACT: Abigail Teener, Air and Radiation Division (AR18J), Environmental Protection Agency, Region 5, 77 West Jackson Boulevard, Chicago, Illinois 60604, (312) 353-7314, teener.abigail@epa.gov.

SUPPLEMENTARY INFORMATION:

I. Background Information

On June 18, 2025 (90 FR 25968), EPA proposed to approve Indiana's plan for attaining the 2010 SO2 NAAQS for the Huntington County area and for meeting other nonattainment area planning requirements of CAA sections 110, 172, 179 and 192. EPA proposed to approve Indiana's demonstration that these requirements provide for attainment of the 2010 SO2 NAAQS in Huntington County and that Indiana had satisfied the other applicable requirements for nonattainment areas. EPA also proposed to approve Commissioner's Order 2023-Air-02, approved and signed on February 12, 2024, which contains the enforceable emission limits and associated requirements for Isolatek International (Isolatek), formerly known as U.S. Mineral Wool, that Indiana's Huntington County SO2 attainment plan relies upon. In the same action, EPA proposed to find that the Huntington County nonattainment area failed to attain the 2010 SO2 NAAQS by the applicable attainment date of April 9, 2023, but that finalizing the approval of Indiana's plan would fulfill the requirement under CAA section 179 for a State to submit a revision to its SIP to provide for attainment in that area no later than five years from the date of any final determination that the area failed to attain.

An explanation of the CAA requirements, a detailed analysis of the revisions, and EPA's reasons for proposing approval were provided in the notice of proposed rulemaking (90 FR 25968, June 18, 2025) and will not be restated here. The public comment period for this proposed rule ended on July 18, 2025. EPA received two supportive comments on the proposal, which are included in the docket for this action.

II. Final Action

EPA is determining, under section 179 of the CAA, that the Huntington County, Indiana nonattainment area failed to attain the 2010 SO2 NAAQS by the applicable attainment date of April 9, 2023, and that Indiana is therefore subject to the requirement under section 179 to submit a revision to its SIP to provide for attainment in that area no later than five years from the date of any final determination that the area failed to attain. See section 179(c)-(d). EPA is also approving Indiana's November 6, 2023, SIP attainment plan submittal and February 12, 2024, supplemental SIP revision for the Huntington County SO2 nonattainment area as fulfilling this requirement to provide for attainment of the 2010 SO2 NAAQS by the attainment date in this unique circumstance because control measures are now in place and effective, the area is attaining the 2010 SO2 NAAQS, and the State has submitted a complete and approvable attainment plan with all required planning elements. EPA is determining that Indiana has appropriately demonstrated that the plan provides for attainment of the 2010 SO2 NAAQS in the Huntington County, Indiana nonattainment area and that the plan meets the other applicable requirements under CAA sections 172, 191, and 192. The approval of Indiana's SO2 attainment plan also terminates the Federal Implementation Plan deadline that was triggered by EPA's November 3, 2020 (85 FR 69504), Finding of Failure to Submit for the Huntington County area.

III. Incorporation by Reference

In this rule, EPA is finalizing regulatory text that includes incorporation by reference. In accordance with requirements of 1 CFR 51.5, EPA is finalizing the incorporation by reference of the Indiana Regulations described in section I of this preamble and set forth in the amendments to 40 CFR part 52 below. EPA has made, and will continue to make, these documents generally available through https://www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

IV. Statutory and Executive Order Reviews

Approving an attainment plan for a nonattainment area and a finding that an area has failed to attain the NAAQS by the relevant attainment date under sections 110, 172, 179 and 192 of the CAA are actions that affect the status of a geographical area and do not impose any additional regulatory requirements on sources beyond those imposed by State law. Moreover, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law.

A. Executive Order 12866: Regulatory Planning and Review

This action is not a significant regulatory action and was therefore not submitted to the Office of Management and Budget (OMB) for review

B. Executive Order 14192: Unleashing Prosperity Through Deregulation

This action is not subject to Executive Order 14192 (90 FR 9065, February 6, 2025) because SIP approval and finding of failure to attain actions under the CAA are exempt from review under Executive Order 12866.

C. Paperwork Reduction Act

This rule does not impose an information collection burden under the provisions of the Paperwork Reduction Act of 1995 (44 U.S.C. 3501 et seq.).

D. Regulatory Flexibility Act

This action merely approves State law as meeting Federal requirements and imposes no additional requirements beyond those imposed by State law. Accordingly, the Administrator certifies that this rule will not have a significant economic impact on a substantial number of small entities under the Regulatory Flexibility Act (5 U.S.C. 601 et seq.).

E. Unfunded Mandates Reform Act (UMRA)

This action does not contain any unfunded mandate as described in UMRA, 2 U.S.C. 1531-1538, and does not significantly or uniquely affect small governments. This action does not impose additional requirements beyond those imposed by State law. Accordingly, no additional costs to State, local, or tribal governments, or to the private sector, will result from this action.

F. Executive Order 13132: Federalism

This action does not have federalism implications. It will not have substantial direct effects on the States, on the relationship between the national government and the States, or on the distribution of power and responsibilities among the various levels of government.

G. Executive Order 13175: Consultation and Coordination With Indian Tribal Governments

Executive Order 13175 (65 FR 67249, November 9, 2000), requires EPA to develop an accountable process to ensure “meaningful and timely input by tribal officials in the development of regulatory policies that have tribal implications.” This rule does not have Tribal implications, as specified in Executive Order 13175. It will not have substantial direct effects on Tribal governments. Thus, Executive Order 13175 does not apply to this rule.

H. Executive Order 13045: Protection of Children From Environmental Health and Safety Risks

This action is not subject to Executive Order 13045 because it is not 3(f)(1) significant as defined in Executive Order 12866, and because EPA does not believe the environmental health or safety risks addressed by this action present a disproportionate risk to children because it does not establish an environmental standard intended to mitigate health or safety risks.

I. Executive Order 13211: Actions That Significantly Affect Energy Supply, Distribution, or Use

This action is not subject to Executive Order 13211 (66 FR 28355 (May 22, 2001)), because it is not a significant regulatory action under Executive Order 12866.

J. National Technology Transfer Advancement Act

This rulemaking does not involve technical standards.

K. Congressional Review Act

This action is subject to the Congressional Review Act, and EPA will submit a rule report to each House of the Congress and to the Comptroller General of the United States. This action is not a “major rule” as defined by 5 U.S.C. 804(2).

L. Judicial Review

Under section 307(b)(1) of the CAA, petitions for judicial review of this action must be filed in the United States Court of Appeals for the appropriate circuit by October 14, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).

List of Subjects in 40 CFR Part 52

Environmental protection, Air pollution control, Incorporation by reference, Intergovernmental relations, Reporting and recordkeeping requirements, Sulfur oxides.

Dated: August 5, 2025.
Anne Vogel,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. Amend § 52.770:

a. In the table in paragraph (d) by adding an entry at the end for “Isolatek International”; and

b. In the table in paragraph (e) by adding an entry at the end for “Huntington County 2010 Sulfur Dioxide (SO2) Attainment Plan”.

The addition reads as follows:

§ 52.770 Identification of plan.

* * * * *

(d) * * *

EPA-Approved Indiana Source-Specific Provisions
CO date | Title | SIP rule | EPA approval | Explanation
* * * * * * *
2/12/2024 | Isolatek International | N.A | 8/14/2025, 90 FR [Insert Federal Register page where the document begins] | Limitations to support attainment plan.

(e) * * *

EPA-Approved Indiana Nonregulatory and Quasi-Regulatory Provisions
Title | Indiana date | EPA approval | Explanation
* * * * * * *
Huntington County 2010 Sulfur Dioxide (SO2) Attainment Plan | 11/6/2023 | 8/14/2025, 90 FR [Insert Federal Register page where the document begins] | Full approval.

* * * * *

3. In § 52.774, add paragraph (c) to read as follows:

§ 52.774 Determination of attainment.

* * * * *

(c) Based upon air quality modeling, EPA determined that the Huntington County sulfur dioxide (SO2) nonattainment area failed to attain the 2010 SO2 NAAQS by the applicable attainment date of April 9, 2023. Therefore, EPA has met the requirement pursuant to CAA section 179(c) to determine, based on the Area's air quality as of the attainment date, whether the Area attained the standard. EPA also determined that Indiana has met the requirements resulting from failing to attain pursuant to section 179(d) for the Huntington County SO2 nonattainment area.

[FR Doc. 2025-15455 Filed 8-13-25; 8:45 am]

BILLING CODE 6560-50-P